DEPARTMENT OF AGRICULTURE

Agricultural Marketing Service

[Doc. No FV10-CP-01, AMS-FV-10-0041]

Web Based Supply Chain Management Commodity Offer Form, Paperwork Collection Notice

AGENCY: Agricultural Marketing Service, USDA.

ACTION: Notice; request for comments.

SUMMARY: In accordance with the Paperwork Reduction Act of 1995, the Agricultural Marketing Service (AMS) is seeking comments from all interested individuals and organizations on a revision of a currently approved information collection request. This information collection is necessary to support the procurement of agricultural commodities for domestic nutrition assistance programs. AMS issues invitations to purchase fresh and processed commodities for domestic nutrition assistance programs on a year round basis. The revision to the information collection request is required for the implementation of a new system named Web Based Supply Chain Management (WBSCM) that will allow respondents to submit information electronically. It will replace the existing computer request for information collected with and a similar set of computer requested data in WBSCM. The information collection burden for respondents should not increase.

DATES: Comments on this notice must be received on or before July 26, 2010.

ADDRESSES: We invite you to submit comments on this notice. In your comment, include date, and page number of this issue of the Federal Register. You may submit comments by any of the following methods:

• E-mail: Send comments to: david.tuckwiller@ams.usda.gov.

• Fax: (202) 720-2782.

• Mail: David Tuckwiller, Project Manager, Web Based Supply Chain Management System, Agricultural Marketing Service (AMS), 1400 Independence Ave., SW., Room 1406, Washington, DC 20090.

You may also send comments to the Desk Officer for Agriculture, Office of Information and Regulatory Affairs, Office of Management and Budget, Washington, DC 20503.

FOR FURTHER INFORMATION CONTACT: David Tuckwiller, Project Manager, Web Based Supply Chain Management System, phone (202) 720-4517.

SUPPLEMENTARY INFORMATION: Title: WBSCM Offer Forms.

OMB Number: 0581-NEW.

Expiration Date: Three years from approval.

Type of Request: Regular.

Abstract: AMS purchases commodities for various domestic nutrition assistance programs, and provides support for commodity markets with surplus inventory. AMS issues invitations to purchase agricultural commodities for use in domestic nutrition assistance programs. Currently, vendors respond by submitting sealed bids electronically via Domestic Electronic Bid Entry System (DEBES).

This information collection request is for the new WBSCM system where respondents will submit information electronically via that system. It will replace DEBES.

Vendor information and the annual certification information will be entered and received electronically in WBSCM. All of the domestic offer information will be entered and received electronically in WBSCM. Vendors will be able to access WBSCM to see the date and time the system shows for receipt of bid, bid modification, or bid cancellation information. At bid opening date and time, the bid information is evaluated through the WBSCM system. Acceptances will be sent to the successful offerors electronically. Awarded contracts will be posted on the AMS Web site.

Estimate of Burden: Public reporting burden for collecting information under this notice is estimated to average 25 (divide the burden hours by # of responses 944/2266 = .41 or 25 minutes) minutes per response, including the time for reviewing instructions, searching existing data sources, gathering and maintaining the data needed, and completing and reviewing the collection of information.

Respondents: Businesses.

Estimated Number of Respondents: 344.

Estimated Average Number of Responses per Respondent: 6.59 (# of response/# of respondents 2266/344 = 6.59).

Estimated Total Annual Responses: 2266.

Estimated Total Annual Burden on Respondents: 944 hours.

We are requesting comments on all aspects of this information collection that will help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments to this notice will be summarized and included in the request for OMB approval. All comments will also become a matter of public record.

Dated: May 19, 2010.
David R. Shipman,
Acting Administrator, Agricultural Marketing Service.

[FR Doc. 2010-12472 Filed 5-24-10; 8:45 am]

BILLING CODE 3410-02-P